SMALL BUSINESS ADMINISTRATION

[Declaration of Disaster #3255]

State of New Mexico

As a result of the President's major disaster declaration on May 13, 2000, and an amendment thereto on May 16, I find that the following Counties in the State of New Mexico constitute a disaster area due to damages caused by a severe forest fire beginning on May 5, 2000 and continuing: Bernalillo, Chaves, Cibola, DeBaca, Dona Ana, Eddy, Guadalupe, Lincoln, Los Alamos, McKinley, Mora, Otero, Rio Arriba, San Juan, San Miguel, Sandoval, Santa Fe, Sierra, Socorro, Taos, and Torrance. Applications for loans for physical damage as a result of this disaster may be filed until the close of business on July 12, 2000, and for loans for economic injury until the close of business on February 13, 2001 at the address listed below or other locally announced locations: U.S. Small Business Administration, Disaster Area 3 Office, 4400 Amon Carter Blvd., Suite 102, Fort Worth, TX 76155.

In addition, applications for economic injury loans from small businesses located in the following contiguous counties may be filed until the specified date at the above location: Catron, Colfax, Curry, Grant, Harding, Lea, Luna, Quay, Roosevelt, and Valencia Counties in New Mexico; Apache County, Arizona; Archuleta, Conejos, Costilla, La Plata, and Montezuma Counties in Colorado; San Juan County, Utah; and Culberson, El Paso, Hudspeth, Loving, and Reeves Counties in Texas.

The interest rates are:

For Physical Damage

Homeowners With Credit Available Elsewhere: 7.375%

Homeowners Without Credit Available Elsewhere: 3.687%

Businesses With Credit Available Elsewhere: 8.000%

Businesses and Non-Profit Organizations Without Credit

Available Elsewhere: 4.000%

Others (Including Non-Profit Organizations) With Credit Available Elsewhere: 6.750%

For Economic Injury

Businesses and Small Agricultural Cooperatives Without Credit Available Elsewhere: 4.000%

The number assigned to this disaster for physical damage is 325505. For economic injury the numbers are 9H3800 for New Mexico, 9H3900 for Arizona, 9H4000 for Colorado, 9H4100 for Utah, and 9H4200 for Texas.

(Catalog of Federal Domestic Assistance Program Nos. 59002 and 59008)
Dated: May 18, 2000.
James E. Rivera,
Acting Associate Administrator for Disaster Assistance.

[FR Doc. 00-13232 Filed 5-25-00; 8:45 am]

BILLING CODE 8025-01-P